ENVIRONMENTAL PROTECTION AGENCY

[ER-FRL-9004-1]

Environmental Impacts Statements; Notice of Availability

Responsible Agency: Office of Federal Activities, General Information (202) 564-7146 or http://www.epa.gov/compliance/nepa/.

Weekly receipt of Environmental Impact Statements

Filed 07/09/2012 through 07/13/2012

Pursuant to 40 CFR 1506.9.

Notice

Section 309(a) of the Clean Air Act requires that EPA make public its comments on EISs issued by other Federal agencies. EPA's comment letters on EISs are available at: http://www.epa.gov/compliance/nepa/eisdata.html.

SUPPLEMENTARY INFORMATION: EPA is seeking agencies to participate in its e-NEPA electronic EIS submission pilot. Participating agencies can fulfill all requirements for EIS filing, eliminating the need to submit paper copies to EPA Headquarters, by filing documents online and providing feedback on the process. To participate in the pilot, register at: https://cdx.epa.gov.

EIS No. 20120230, Draft EIS, USACE, CA, Sierra Vista Specific Plan Development, Implementation, City of Roseville, Placer County, CA, Comment Period Ends: 09/04/2012, Contact: James T. Robb 916-557-7610.

EIS No. 20120231, Draft EIS, USFS, NE, Fall River West and Oglala Geographic Areas Allotment Management Planning, Pine Ridge and Fall Ranger Districts, Nebraska National Forest, Dawes and Sioux Counties, NE and Fall River County, SD, Comment Period Ends: 09/04/2012, Contact: Carla Loop 308-432-0336.

EIS No. 20120232, Final EIS, RUS, MN, Hampton—Rochester—La Crosse Transmission System Improvement Project, Construction and Operation of a 345-kilovolt Transmission Line and Associated Facilities between Hampton, MN and La Crosse, WI, Review Period Ends: 08/20/2012, Contact: Stephanie A. Strength 202-720-0820.

EIS No. 20120233, Draft EIS, USFS, NM, Prehistoric Trackways National Monument Resource Management Plan, Implementation, Dona Ana County, NM, Comment Period Ends: 10/22/2012, Contact: Lori Allen 575-525-4454.

EIS No. 20120234, Final EIS, NPS, KY, Big South Fork National River and Recreation Area Obed Wild and Scenic River Non-Federal Oil and Gas Management Plan, Implementation, KY and TN, Review Period Ends: 08/20/2012, Contact: Dan Niosi 303-969-2068.

EIS No. 20120235, Draft Supplement, FRA, CA,California High-Speed Train (HST): Fresno to Bakersfield Section High-Speed Train, Reintroducing Alignment Alternatives and an Additional Alternative through the Bakersfield Area, USACE Section 10 and 404 Permits, Fresno, Kings, Tulare, and Kern Counties, CA, Comment Period Ends: 09/20/2012, Contact: David Valenstein 202-493-6381.

EIS No. 20120236, Draft Supplement, USFS, MT,Beaverhead-Deerlodge National Forest Land and Resource Management Plan, To Comply District of Montana Court Order, To Apply the Minimization Criteria to Three Routes Specifically Designated in the Forest Plan as Exceptions to Winter, Non-motorized Areas, Beaverhead and Jefferson Counties, MT, Comment Period Ends: 09/04/2012, Contact: Patty Bates 406-683-3900.

EIS No. 20120237, Final Supplement, FHWA, CO,U.S. 550 South Connection to U.S. 160, Updated Information, to U.S. 160 from Durango to Bayfield, U.S. Army COE Section 404 Permit, La Plata County, CO, Review Period Ends: 08/20/2012, Contact: Stephanie Gibson 720-963-3013.

EIS No. 20120238, Draft EIS, GSA, DHS, NY, Public Sale of Plum Island Animal Disease Center, Long Island Sound, Suffolk County, NY, Comment Period Ends: 09/20/2012, Contact: John Dugan 617-565-5700. The U.S. General Services Administration and U.S. Department of Homeland Security are Joint Lead Agencies for this project.

EIS No. 20120239, Draft Supplement, USACE, CA, Folsom Dam Modification Project Approach Channel, Providing New or Additional Information on the Design and Means to Construct the Auxiliary Spillway Approach Channel, Placer and El Dorado Counties, CA, Comment Period Ends: 09/10/2012, Contact: Todd Plain 916-557-7461.

Amended Notices

EIS No. 20120161, Draft EIS, USFS, NM, North Fork Eagle Creek Wells, Special Use Authorization Project, Operation of Four Municipal Supply Water Wells, Lincoln National Forest, Lincoln County, NM, Comment Period Ends: 09/07/2012, Contact: Dave Warnack 575-257-4095 Revision to FR Notice Published 07/13/2012; Retracting the Extended Comment Period per the request of USDA, the original comment period ended 07/09/2012.

EIS No. 20120175, Draft EIS, USFWS, DE, Prime Hook National Wildlife Refuge, Development of a Comprehensive Conservation Plan, Implementation, Sussex County, DE, Comment Period Ends: 08/27/2012, Contact: Thomas Bonetti 413-253-8307. Revision to FR Notice Published 06/08/2012; Extending Comment Period from 08/06/2012 to 08/27/2012.

EIS No. 20120191, Draft EIS, USACE, CO, Chatfield Reservoir Storage Reallocation, To Reallocate 20,600 acre-feet of Storage from the Exclusive Flood Control Pool to the Conservation Pool, Funding, Jefferson/Douglas Counties, CO, Comment Period Ends: 09/06/2012, Contact: Gwyn Jarrett 402-995-2717. Revision to FR Notice Published 06/15/2012; Extending the Comment Period from 08/14/2012 to 09/06/2012.

EIS No. 20120201, Draft Supplement, USACE, IN,Indianapolis North Flood Damage Reduction, Modifications to Project Features and Realignment of the South Warfleigh Section, Marion County, IN, Comment Period Ends: 08/31/2012, Contact: Michael Turner 502-315-6900. Revision to FR Notice Published 06/29/2012; Extending Comment Period from 08/13/2012 to 08/31/2012.

EIS No. 20120229, Draft EIS, FHWA, CA, I-710 Corridor Project, Improvements from Ocean Boulevard in the City of Long Beach to State Route 60 in East Los Angeles, Funding, Los Angeles County, CA, Comment Period Ends: 08/29/2012, Contact: Cesar E. Perez 916-498-5065, Revision to FR Notice Published 07/13/2012; Extending Comment Period to 08/29/2012.

Dated: July 17, 2012.
Cliff Rader,
Director, NEPA Compliance Division, Office of Federal Activities.

[FR Doc. 2012-17740 Filed 7-19-12; 8:45 am]

BILLING CODE 6560-50-P